DEPARTMENT OF HOMELAND SECURITY

Bureau of Customs and Border Protection

DEPARTMENT OF THE TREASURY

19 CFR Parts 10, 163, and 178

[Docket Number USCBP-2007-0001; CBP Dec. 08-03]

RIN 1505-AB75

United States-Jordan Free Trade Agreement

AGENCIES: Customs and Border Protection, Department of Homeland Security; Department of the Treasury.

ACTION: Final rule.

SUMMARY: This document adopts as a final rule, without change, interim amendments to title 19 of the Code of Federal Regulations which were published in the Federal Register on June 27, 2007, as CBP Dec. 07-50 to implement the preferential tariff treatment and other customs-related provisions of the United States-Jordan Free Trade Agreement signed by the United States and the Hashemite Kingdom of Jordan.

DATES: Final rule effective April 30, 2008.

FOR FURTHER INFORMATION CONTACT: Operational Aspects: Heather Sykes, Trade Policy and Programs, Office of International Trade (202-863-6099).

Legal Aspects: Karen Greene, Regulations and Rulings, Office of International Trade (202-572-8838).

SUPPLEMENTARY INFORMATION: On October 24, 2000, the United States and the Hashemite Kingdom of Jordan (the “Parties”) signed the U.S.-Jordan Free Trade Agreement (“US-JFTA”), which is designed to eliminate tariffs and other trade barriers between the two countries. The provisions of the US-JFTA were adopted by the United States with the enactment on September 28, 2001, of the United States-Jordan Free Trade Area Implementation Act (the “Act”), Public Law 107-43, 115 Stat. 243 (19 U.S.C. 2112 note). On December 7, 2001, the President signed Proclamation 7512 to implement the provisions of the US-JFTA. The Proclamation, which was published in the Federal Register on December 13, 2001 (66 FR 64497), modified the Harmonized Tariff Schedule of the United States (“HTSUS”) as set forth in Annexes I and II of the Proclamation. The modifications to the HTSUS included the addition of new General Note 18, the incorporation of the relevant US-JFTA rules of origin as set forth in the Act, and the insertion throughout the HTSUS of the preferential duty rates applicable to individual products under the US-JFTA where the special program indicator “JO” appears in parenthesis in the “Special” rate of duty subcolumn.

Article 2 and Annex 2.2 of the US-JFTA set forth the rules of origin and documentary requirements that apply for purposes of obtaining preferential treatment under the US-JFTA. Annex 2.1 of the US-JFTA sets forth the terms for the immediate elimination or staged reduction of duties on products of Jordan, with all products to become duty free within a ten-year period (by the year 2010).

Under Annex 2.2 of the US-JFTA and § 102 of the Act, to be eligible for reduced or duty-free treatment under the US-JFTA, a good imported into the United States from Jordan must meet three basic requirements: (1) It must be imported directly from Jordan into the customs territory of the United States; (2) it must be a product of Jordan, i.e., it must be either wholly the growth, product, or manufacture of Jordan or a new or different article of commerce that has been grown, produced, or manufactured in Jordan; and (3) if it is a new or different article of commerce, it must have a minimum domestic content, i.e., at least 35 percent of its appraised value must be attributed to the cost or value of materials produced in Jordan plus the direct costs of processing operations performed in Jordan. Annex 2.2 of the US-JFTA further provides that: (1) The cost or value of U.S.-produced materials may be counted toward the Jordanian domestic content requirement to a maximum of 15 percent of the appraised value of the imported good; and (2) simple combining or packaging operations or mere dilution with water or another substance will confer neither Jordanian origin on an imported good nor Jordanian or U.S. origin on a constituent material of an imported good.

In addition, for purposes of demonstrating compliance with the origin criteria, Annex 2.2 of the US-JFTA establishes the requirements for submitting a declaration, when requested by Customs and Border Protection (“CBP”), that provides all pertinent information concerning the production or manufacture of an imported good.

CBP is responsible for administering the provisions of the US-JFTA and the Act that relate to the importation of goods into the United States from Jordan. On June 27, 2007, CBP published CBP Dec. 07-50 in the Federal Register (72 FR 35154), setting forth interim amendments to implement the preferential tariff treatment and customs-related provisions of the US-JFTA. In order to provide transparency and facilitate their use, the majority of the US-JFTA implementing regulations set forth in CBP Dec. 07-50 were included within new Subpart K in Part 10 of title 19 of the Code of Federal Regulations (19 CFR Subpart K, Part 10). However, in those cases in which US-JFTA implementation was more appropriate in the context of an existing regulatory provision, the US-JFTA regulatory text was incorporated in an existing part within the CBP regulations.

The U.S.-JFTA implementing regulations set forth in CBP Dec. 07-50 pertain specifically to US-JFTA customs-related provisions, such as the rules of origin, that govern the duty-free or reduced-duty treatment of products imported into the United States from Jordan. These rules do not confer origin or establish a criterion for determining the origin of imported goods for any other purpose. For example, origin determinations for country of origin marking purposes under 19 U.S.C. 1304 are not affected.

Although the interim regulatory amendments were promulgated without prior public notice and comment procedures and took effect on June 27, 2007, CBP Dec. 07-50 provided for the submission of public comments that would be considered before adopting the interim regulations as a final rule. The prescribed public comment period closed on August 27, 2007. No comments were received in response to the solicitation of public comments in CBP Dec. 07-50.

Conclusion

Accordingly, CBP has decided to adopt the interim rule published on June 27, 2007, without change.

Executive Order 12866

CBP has determined that this document is not a regulation or rule subject to the provisions of Executive Order 12866 of September 30, 1993 (58 FR 51735, October 1993), because it pertains to a foreign affairs function of the United States and implements an international agreement and, therefore, is specifically exempted by section 3(d)(2) of Executive Order 12866.

Regulatory Flexibility Act

The regulations to implement the preferential tariff treatment and other customs-related provisions of the US-JFTA were previously published in CBP Dec. 07-50 as interim regulations. CBP issued the regulations as an interim rule because, as noted above, they pertained to a foreign affairs function of the United States and implemented an international agreement. Because no notice of proposed rulemaking was required, the provisions of the Regulatory Flexibility Act, as amended (5 U.S.C. 601 et seq.), do not apply. Accordingly, this final rule is not subject to the regulatory analysis requirements or other requirements of 5 U.S.C. 603 and 604.

Paperwork Reduction Act

The collection of information in this final rule has previously been reviewed and approved by the Office of Management and Budget in accordance with the requirements of the Paperwork Reduction Act (44 U.S.C. 3507) under control number 1651-0128.

The collections of information in these regulations are in §§ 10.703 and 10.704. This information is required in connection with claims for preferential tariff treatment and for the purpose of the exercise of other rights under the US-JFTA and the Act and will be used by CBP to determine eligibility for a tariff preference or other rights or benefits under the US-JFTA and the Act. The likely respondents are business organizations including importers, exporters, and manufacturers.

The estimated average annual burden associated with the collection of information in this final rule is 0.2 hours per respondent or record keeper. Comments concerning the accuracy of this burden estimate and suggestions for reducing that burden, should be directed to the Office of Management and Budget, Attention: Desk Officer for the Department of the Treasury, Office of Information and Regulatory Affairs, Washington, DC 20503. A copy should also be sent to the Trade and Commercial Regulations Branch, Regulations and Rulings, Customs and Border Protection, 1300 Pennsylvania Avenue, NW. (Mint Annex), Washington, DC 20229.

Signing Authority

This document is being issued in accordance with section 0.1(a)(1) of the CBP Regulations (19 CFR 0.1(a)(1)) pertaining to the authority of the Secretary of the Treasury (or his/her delegate) to approve regulations related to certain customs revenue functions.

List of Subjects

19 CFR Part 10

Customs duties and inspection, Exports, Imports, Preference programs, Reporting and recordkeeping requirements, Trade agreements (United States-Jordan Free Trade Agreement).

19 CFR Part 163

Administrative practice and procedure, Customs duties and inspection, Exports, Imports, Reporting and recordkeeping requirements, Trade agreements.

19 CFR Part 178

Administrative practice and procedure, Exports, Imports, Reporting and recordkeeping requirements.

Amendments to the CBP Regulations

Accordingly, the interim rule amending Parts 10, 163, and 178 of the CBP regulations (19 CFR parts 10, 163, and 178), which was published at 72 FR 35154 on June 27, 2007, is adopted as a final rule without change.

W. Ralph Basham,
Commissioner, U.S. Customs and Border Protection.
Approved: March 25, 2008.
Timothy E. Skud,
Deputy Assistant Secretary of the Treasury.

[FR Doc. E8-6511 Filed 3-28-08; 8:45 am]

BILLING CODE 9111-14-P